DEPARTMENT OF ENERGY

Federal Energy Regulatory Commission

[Docket No. RP01-223-000]

National Association of Gas Consumers, v. All Sellers of Natural Gas in the United States of America in Interstate Commerce; Notice of Filing

February 6, 2001.

Take notice that on February 1, 2001, the National Association of Gas Consumers (NAGC) tendered for filing a complaint alleging that the markets for natural gas in the United States are not workably competitive and that the prices in those markets are unjust and unreasonable.

NAGC alleges that the prices for natural gas do not reflect legitimate forces of supply and demand. NAGC asserts that the Commission's order issued on December 15, 2000 in San Diego Gas & Electric Co. v. Sellers of Energy and Ancillary Services into the Markets Operated by the California, Independent System Operator and the California Exchange, 93 FERC ¶ 61,294, provides a basis for the Commission to issue an immediate order setting a benchmark price for natural gas in the United States at $2.74 as projected by the National Petroleum Council, and rule that any sales above the level be subject to complaints filed at the Commission for refunds of unjust and unreasonable rates for three years commencing January 1, 2001.

In the alternative, NAGC requests that the level of the present high natural gas prices be set for investigation and hearing as unjust and unreasonable, and upon the conclusion thereof, orders that sellers refund excessive prices to consumers. NAGC requests that in light of the severe impact of current prices on consumers of natural gas in the United States, that the Commission act as quickly as possible.

Any person desiring to be heard or to protest said filing should file a motion to intervene or a protest with the Federal Energy Regulatory Commission, 888 First Street, NE., Washington, DC 20426, in accordance with sections 385.214 or 385.211 of the Commission's Rules and Regulations. All such motions or protests must be filed on or before March 1, 2001. Protests will be considered by the Commission in determining the appropriate action to be taken, but will not serve to make Protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the Internet in lieu of paper. See, 18 CFR 385.2001(a)(1)(iii) and the instructions on the Commission's web site at http://www.ferc.fed.us/efi/doorbell.htm. Answers to the filing shall be due on or before March 1, 2001.

David P. Boergers,
Secretary.

[FR Doc. 01-3433 Filed 2-9-01; 8:45 am]

BILLING CODE 6717-01-M